DEPARTMENT OF COMMERCE

International Trade Administration

[C-533-905; C-523-817; C-542-805; C-549-845; C-489-847]

Certain Steel Nails From India, the Sultanate of Oman, Sri Lanka, Thailand, and the Republic of Turkey: Postponement of Preliminary Determinations in the Countervailing Duty Investigations

AGENCY: Enforcement and Compliance International Trade Administration, Department of Commerce.

DATES: Applicable March 3, 2022.

FOR FURTHER INFORMATION CONTACT: Genevieve Coen (India); Thomas Martin (the Sultanate of Oman); Nathan James (Sri Lanka); Laura Griffith (Thailand); or Benjamin Luberda (the Republic of Turkey), AD/CVD Operations, Enforcement and Compliance, International Trade Administration, U.S. Department of Commerce, 1401 Constitution Avenue NW, Washington, DC 20230; telephone: (202) 482-3251; (202) 482-3936; (202) 482-5305; (202) 482-6430; or (202) 482-2185, respectively.

SUPPLEMENTARY INFORMATION:

Background

On January 19, 2022, the Department of Commerce (Commerce) initiated the countervailing duty (CVD) investigations of imports of certain steel nails (steel nails) from India, the Sultanate of Oman (Oman), Sri Lanka, Thailand, and the Republic of Turkey (Turkey).¹ Currently, the preliminary determinations are due no later than March 25, 2022.

¹ See Certain Steel Nails from India, the Sultanate of Oman, Sri Lanka, Thailand, and the Republic of Turkey: Initiation of Countervailing Duty Investigations, 87 FR 3970 (January 26, 2022) (signed on January 19, 2022).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reason for the request. Commerce will grant the request unless it finds compelling reasons to deny the request.

On February 24, 2022, the petitioner ² in this investigation submitted a timely request that Commerce postpone the preliminary CVD determinations.³ The petitioner stated that it is requesting a postponement because additional time is needed to develop the records and review responses in order to determine accurate CVD rates.⁴

² The petitioner is Mid Continent Steel & Wire, Inc.

³ See Petitioner's Letter, “Petitioner's Request for Postponement of Preliminary Determinations,” dated February 24, 2022.

⁴ Id. at 2.

In accordance with 19 CFR 351.205(e), the petitioner has stated the reasons for requesting a postponement of the preliminary determinations, and Commerce finds no compelling reason to deny the request. Therefore, in accordance with section 703(c)(1)(A) of the Act, Commerce is postponing the deadline for the preliminary determinations to no later than 130 days after the date on which this investigation was initiated, i.e., May 31, 2022.⁵ Pursuant to section 705(a)(1) of the Act and 19 CFR 351.210(b)(1), the deadline for the final determinations of these investigations will continue to be 75 days after the date of the preliminary determinations.

⁵ The preliminary determination deadline falls on May 29, 2022, which is a Sunday. The following day is the Memorial Day federal holiday. Commerce's practice dictates that, where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: February 25, 2022.
Lisa W. Wang,
Assistant Secretary for Enforcement and Compliance.

[FR Doc. 2022-04506 Filed 3-2-22; 8:45 am]

BILLING CODE 3510-DS-P